DEPARTMENT OF JUSTICE

Antitrust Division

Notice Pursuant to the National Cooperative Research and Production Act of 1993—Management Service Providers Association, Inc.

Notice is hereby given that, on February 5, 2001, pursuant to section 6(a) of the National Cooperative Research and Production Act of 1993, 15 U.S.C. section 4301 et seq. (“the Act”), Management Service Providers Association, Inc. has filed written notifications simultaneously with the Attorney General and the Federal Trade Commission disclosing changes in its membership status. The notifications were filed for the purpose of extending the Act's provisions limiting the recovery of antitrust plaintiffs to actual damages under specified circumstances. Specifically, Aprisma Management Technologies, Durham, NH; Atesto Technologies, Inc., Fremont, CA; Automatos, Inc., Boston, MA; Bangalore Labs Ltd., Bangalore, INDIA; Chapter 2, San Francisco, CA; Compaq Computer Corporation, Houston, TX; Euclid, Inc., Santa Clara, CA; Fujitsu Limited, Tokyo, JAPAN; NEXL, Inc., Peabody, MA; Objective Systems Integrators, Folsom, CA; Qualys, Inc., Sunnyvale, CA; S Net Systems, Inc., Seoul, REPUBLIC OF KOREA; TEKsystems Internet Business Services, Beaverton, OR; Trend Micro, Cupertino, CA; Arula Systems, Cupertino, CA; AVCOM, Sunnyvale, CA; Center 7, Lindon, UT; Check Point Software Technologies Ltd., Redwood City, CA; dbaDIRECT, Inc., Florence, KY; developNET Corporation, Portland, OR; Interloci, Inc., Leesburg, VA; Iworld Holdings Limited, Seoul, REPUBLIC OF KOREA; Keynote Systems, Inc., San Mateo, CA; Managed Objects, McLean, VA; Marimba, Mountain View, CA; NOCpulse, Inc., Sunnyvale, CA; Nuvo Network Management, Inc., Ottawa, Ontario, CANADA; Oblicore, Inc., Ramat Gan, ISRAEL; OMRON ALPHATEC Corporation, Tokyo, JAPAN; Opticom, Inc., Andover, MA; PatchLink.com Corporation, Scottsdale, AZ; Raymond James & Associates, Inc., St. Petersburg, FL; RiverSoft, San Francisco, CA and Servail, Fairfax, VA have been added as parties to this venture.

No other changes have been made in either the membership or planned activity of the group research project. Membership in this group research project remains open, and Management Service Providers Association, Inc. intends to file additional written notification disclosing all changes in membership.

On October 20, 2000, Management Service Providers Association, Inc. filed its original notification pursuant to section 6(a) of the Act. The Department of Justice published a notice in the Federal Register pursuant to section 6(b) of the Act of November 24, 2000 (65 FR 70613).

Constance K. Robinson,
Director of Operations, Antitrust Division.

[FR Doc. 01-5714 Filed 3-7-01; 8:45 am]

BILLING CODE 4410-11-M